DEPARTMENT OF THE INTERIOR

Bureau of Land Management

National Historic Oregon Trail Interpretive Center Advisory Board; Notice of Reestablishment

AGENCY: Bureau of Land Management, Interior.

ACTION: Notice of reestablishment of the National Historic Oregon Trail Interpretive Center Advisory Board.

SUMMARY: This notice is published in accordance with Section 9(a)(2) of the Federal Advisory Committee Act of 1972, Public Law 92-463. Notice is hereby given that the Secretary of the Interior has reestablished the Bureau of Land Management's National Historic Oregon Trail Interpretive Center Advisory Board. The purpose of the Advisory Board will be to advise the Bureau of Land Management's Vale District Manager regarding policies, programs, and long-range planning for the management use, and further development of the Interpretive Center; establish a framework for enhanced partnership and participation between the Bureau and the Oregon Trail Preservation Trust; ensure a financially secure, world-class historical and educational facility, operated through a partnership between the Federal Government and the community. This cooperative relationship enriches and maximizes visitor experiences in the region, and improves the coordination of advice and recommendations from the publics served.

FOR FURTHER INFORMATION CONTACT: Douglas Herrema, National Landscape Conservation System (100), Bureau of Land Management, 1620 L Street, NW., Mail Stop 301, Washington, DC 20036, telephone (202) 452-7787.

Certification Statement

I hereby certify that the reestablishment of the National Historic Oregon Trail Interpretive Center Advisory Board is necessary and in the public interest in connection with the Secretary of the Interior's responsibilities to manage the lands, resources, and facilities administered by the Bureau of Land Management.

Dated: May 29, 2007.
Dirk Kempthorne,
Secretary of the Interior.

[FR Doc. 07-3460 Filed 7-16-07; 8:45 am]

BILLING CODE 4310-33-M